DEPARTMENT OF THE INTERIOR

Bureau of Land Management

[OR-957-00-1420-BJ: GP06-0113]

Filing of Plats of Survey: Oregon/Washington

AGENCY: Bureau of Land Management, Interior.

ACTION: Notice.

SUMMARY: The plat of survey of the following described lands was officially filed in the Oregon State Office, Portland, Oregon, on January 31, 2006.

Willamette Meridian

Oregon

T. 30 S., R. 11 W., accepted November 28, 2005

T. 30 S., R. 9 W., accepted November 28, 2005

T. 23 S., R. 9 W., accepted November 28, 2005

T. 21 S., R. 29 E., accepted December 6, 2005

T. 1 S., R. 6 W., accepted December 6, 2005

T. 6 S., R. 45 E., accepted December 6, 2005

Tps. 9 & 10 S., R. 20 E., accepted December 6, 2005

T. 13 S., R. 7 W., accepted December 6, 2005

T. 14 S., R. 7 W., accepted December 6, 2005

The plats of survey of the following described lands were officially filed in the Oregon State Office, Portland, Oregon, on February 17, 2006.

Willamette Meridian

Oregon

T. 29 S., R. 8 W., accepted January 6, 2006

T. 3 S., R. 5 W., accepted January 6, 2006

T. 7 S., 8 W., accepted January 6, 2006

T. 20 S., R. 28 E., accepted January 13, 2006

Willamette Meridian

Washington

T. 34 N., R. 29 E., accepted December 6, 2005

The plat of survey of the following described lands is scheduled to be officially filed in the Oregon State Office, Portland, Oregon, thirty (30) calendar days from the date of this publication.

Willamette Meridian

Washington

T. 19 N., Rs. 2 & 3 E., accepted April 18, 2006

A copy of the plats may be obtained from the Public Room at the Oregon State Office, Bureau of Land Management, 333 S.W. 1st Avenue, Portland, Oregon 97204, upon required payment. A person or party who wishes to protest against a survey must file a notice that they wish to protest (at the above address) with the State Director, Bureau of Land Management, Portland, Oregon.

FOR FURTHER INFORMATION CONTACT: Chief, Branch of Geographic Sciences, Bureau of Land Management, (333 S.W. 1st Avenue) P.O. Box 2965, Portland, Oregon 97208.

Dated: May 11, 2006.
Robert D. DeViney, Jr.,
Branch of Lands and Minerals Resources.

[FR Doc. E6-7922 Filed 5-23-06; 8:45 am]

BILLING CODE 4310-33-P